DEPARTMENT OF ENERGY

Federal Energy Regulatory Commission

Notice of FERC Staff Attendance at Southwest Power Pool Independent Coordinator of Transmission (ICT) Stakeholders Policy Committee Meeting

March 30, 2007.

The Federal Energy Regulatory Commission hereby gives notice that members of its staff may attend the meetings noted below. Their attendance is part of the Commission's ongoing outreach efforts.

ICT Near-Term Transmission Issues Group

ICT WPP Issues Working Group Meeting

April 10, 2007 (8 a.m.-5 p.m. CST), DoubleTree Hotel-Houston Intercontinental Airport, 15747 John F. Kennedy Airport, Houston, Tx. 77032, 281-848-4000.

ICT Long-Term Transmission Issues Working Group

April 11, 2007 (8:30 a.m.-2 p.m. CST), DoubleTree Hotel-Houston Intercontinental Airport, 15747 John F. Kennedy Airport, Houston, Tx. 77032, 281-848-4000.

ICT Stakeholders Policy Committee Meeting

April 17, 2007 (9 a.m.-3 p.m. CST), DoubleTree Hotel-Houston Intercontinental Airport, 15747 John F. Kennedy Airport, Houston, Tx. 77032, 281-848-4000.

The discussions may address matters at issue in the following proceedings:

Docket No. EL01-88 | Entergy Services, Inc.
Docket No. ER05-1065 | Entergy Services, Inc.
Docket No. ER03-171 | Entergy Mississippi, Inc.
Docket No. EL02-107 | Duke Energy Hinds, LLC,
| Duke Energy Hot Spring, LLC,
| Duke Energy Southaven, LLC,
| Duke Energy North America, LLC v. Entergy Services, Inc.,
| Entergy Operating Companies
Docket No. ER02-405 | Entergy Services, Inc.
Docket No. EL02-88 | Wrightsville Power Facility, L.L.C v. Entergy Arkansas, Inc.
Docket Nos. EL03-3, ER02-1472 | Entergy Gulf States, Inc.
Docket Nos. EL03-4, ER02-1151 | Entergy Services, Inc.
Docket Nos. EL03-5, ER02-1609 | Entergy Services, Inc.
Docket No. EL03-3 | Entergy Operating Companies
Docket No. ER02-1472 | Entergy Operating Companies
Docket No. ER07-406 | Entergy Operating Companies
Docket No. ER07-398 | Entergy Operating Companies
Docket No. ER07-399 | Entergy Operating Companies
Docket No. ER07-259 | Cleco Energy LLC
Docket No. EL03-4 | Entergy Operating Companies
Docket No. ER02-1069 | Entergy Operating Companies
Docket No. EL03-13 | Entergy Operating Companies
Docket No. ER02-2243 | Entergy Operating Companies
Docket No. EL05-15 | Arkansas Electric Cooperative Corporation v. Entergy Arkansas, Inc.
Docket No. EL06-76 | Arkansas Public Service Commission v. Entergy Services, Inc., et al.
Docket No. ER03-583 | Entergy Services, Inc. and EWO Marketing, L.P.
Docket Nos. ER03-681, ER03-682 | Entergy Services, Inc. and Entergy Power, Inc.
Docket No. ER03-744 | Entergy Services, Inc. and Entergy Louisiana, Inc.
Docket No. EL04-20 | Carville Energy LLC v. Entergy Services, Inc.
Docket No. EL04-49 | Quachita Power LLC v. Entergy Services, Inc.
Docket No. EL04-99 | Mississippi Delta Entergy Agency, et al.v. Entergy Services, Inc.
Docket No. EL05-1 | Union Power Partners v. Entergy Services, Inc.
Docket No. EL05-21 | Tenaska Frontier Partners v. Entergy Services, Inc.
Docket No. ER06-1555-000 | Entergy Services, Inc.
Docket Nos. ER03-1272, EL05-22 | Entergy Services, Inc.
Docket No. EL07-25 | Entergy Services, Inc.
Docket No. ER05-1358 | KGen Hinds LLC
Docket No. ER05-1394 | KGen Hot Spring LLC
Docket No. ER05-1419 | Hot Spring Power Company, LP

These meetings are open to the public.

For more information, contact John Rogers, Office of Energy Markets and Reliability, Federal Energy Regulatory Commission at (202) 502-8564 or john.rogers@ferc.gov.

Philis J. Posey,
Acting Secretary.

[FR Doc. E7-6323 Filed 4-4-07; 8:45 am]

BILLING CODE 6717-01-P